DEPARTMENT OF DEFENSE

Office of the Secretary

[Docket ID DoD-2022-HA-0012]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 28, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency, 7700 Arlington Blvd., Falls Church, VA 22042, Terry McDavid, 703-681-3645.

SUPPLEMENTARY INFORMATION: Title; Associated Form; and OMB Number: Defense Medical Human Resources System internet; OMB Control Number 0720-0041.

Needs and Uses: The DoD is required to provide and account for personnel, medical training and readiness and to establish a joint strategy to justify Medical Resources for Readiness and Peacetime Care. In response, the Assistant Secretary of Defense, Health Affairs/TRICARE Management Activity and the Service Surgeon Generals of the Army, Navy and Air Force approved development of a single joint electronic database to provide visibility of and to support the preparedness of all Military Healthcare System (MHS) medical personnel (to meet national security emergencies). The Defense Medical Human Resources System internet (DMHRSi) is a DoD application that provides the MHS with a joint comprehensive enterprise human resource system with capabilities to manage human capital across the entire spectrum of medical facilities and personnel types.

Affected Public: Individuals or households.

Annual Burden Hours: 11,156.

Number of Respondents: 89,250.

Responses per Respondent: 1.

Annual Responses: 89,250.

Average Burden per Response: 7.5 minutes.

Frequency: On occasion.

Dated: January 19, 2022.
Aaron T. Siegel,
Alternate OSD Federal Register Liaison Officer, Department of Defense.

[FR Doc. 2022-01406 Filed 1-24-22; 8:45 am]

BILLING CODE 5001-06-P